INTER-AMERICAN FOUNDATION BOARD MEETING

Sunshine Act Meetings; Correction

AGENCY: Inter-American Foundation.

ACTION: Correction.

SUMMARY: This action corrects the order of the MATTERS TO BE CONSIDERED and the PORTIONS TO BE OPEN TO THE PUBLIC sections of a notice published in the Federal Register on Monday, December 3, 2012 (77 FR 71611).

On page 71611, column 1, in both the MATTERS TO BE CONSIDERED and PORTIONS TO BE OPEN TO THE PUBLIC sections, add “Remarks from John D. Feeley, Principal Deputy Assistant Secretary for Western Hemisphere Affairs” after the “Approval of the Minutes of the September 24, 2012, Meeting of the Board of Directors” subsections.

CONTACT PERSON FOR MORE INFORMATION:

Paul Zimmerman,
General Counsel.

[FR Doc. 2012-30039 Filed 12-10-12; 11:15 am]

BILLING CODE 7025-01-P